DEPARTMENT OF DEFENSE

Department of the Navy

Notice of Availability of Record of Decision for Hawaii-Southern California Training and Testing

AGENCY: Department of the Navy, DOD.

ACTION: Notice.

SUMMARY: The United States Department of the Navy (DoN), after carefully weighing the strategic, operational, and environmental consequences of the proposed action, announces its decision to conduct training and testing activities in the Hawaii-Southern California study area as described in Alternative 2 of the Final Environmental Impact Statement/Overseas Environmental Impact Statement for Hawaii-Southern California Training and Testing, dated August 2013. Under Alternative 2, the DoN will be able to meet current and future DoN and Department of Defense training and testing requirements. In addition to analyzing baseline testing and training in Alternative 2, the DoN analyzed areas where training and testing will continue as in the past, but were not considered in previous environmental analyses. Alternative 2 also includes the establishment of new range capabilities, as well as modifications of existing abilities; adjustments to the type and tempo of training and testing; and the establishment of additional locations to conduct activities between range complexes.

SUPPLEMENTARY INFORMATION: The complete text of the Record of Decision (ROD) is available on the project Web site at http://www.hstteis.com, along with the Final Environmental Impact Statement/Overseas Environmental Impact Statement and supporting documents. Single copies of the ROD are available upon request by contacting: Naval Facilities Engineering Command Pacific/EV21.CS, Attn: HSTT EIS/OEIS Project Manager, 258 Makalapa Drive, Suite 100, Pearl Harbor, HI 96860-3134.

N.A. Hagerty-Ford,
Commander, Office of the Judge Advocate General, U.S. Navy, Federal Register Liaison Officer.

[FR Doc. 2013-31208 Filed 12-27-13; 8:45 am]

BILLING CODE 3810-FF-P